FEDERAL TRADE COMMISSION

Privacy Act of 1974; System of Records

AGENCY: Federal Trade Commission.

ACTION: Rescindment of a system of records notice.

SUMMARY: The Federal Trade Commission (FTC or Commission) is issuing a public notification of its intent to rescind the Privacy Act System of Records Notice (SORN) on the Staff Time and Activity Reporting (STAR) System-FTC (FTC-II-13) and remove it from its existing inventory of SORNs.

DATES: This change is effective on September 30, 2022.

ADDRESSES: Interested parties may file a comment online or on paper. Write “Privacy Act SORN Rescindment” on your comment and file your comment online at https://www.regulations.gov by following the instructions on the web-based form. If you prefer to file your comment on paper, mail your comment to the following address: Federal Trade Commission, Office of the Secretary, 600 Pennsylvania Avenue NW, Suite CC-5610 (Annex J), Washington, DC 20580. Because your comment will become publicly available at https://www.regulations.gov, you are solely responsible for making sure your comment does not include any sensitive or confidential information. Comments containing material for which confidential treatment is requested must be filed in paper form, must be clearly labeled “Confidential,” and must comply with FTC Rule 4.9(c), 16 CFR 4.9(c).

FOR FURTHER INFORMATION CONTACT: G. Richard Gold, Attorney, Office of the General Counsel, FTC, 600 Pennsylvania Avenue NW, Washington, DC 20580, (202-326-3355).

SUPPLEMENTARY INFORMATION: Pursuant to the provisions of the Privacy Act of 1974, as amended, 5 U.S.C. 552a, the FTC is rescinding the Staff Time and Activity Reporting (STAR) System-FTC (FTC-II-13) system of records notice and removing it from its system of records inventory. During a review of agency SORNs, the Commission determined that the STAR SORN was written to describe a database that has been decommissioned and no longer exists.

The STAR System combined matter data as well as time and attendance data for FTC employees. The FTC will continue to separately maintain matter-related data in its Matter Management System (FTC-I-5) about individual employee participation in such matters, and also maintain employee time and attendance data in its employee payroll system (FTC-III-1).

This rescindment will eliminate an unnecessary duplicate notice and ensure compliance with the Privacy Act of 1974 and the Office of Management and Budget (OMB) Circular A-108, Federal Agency Responsibilities for Review, Reporting, and Publication under the Privacy Act. Rescinding the STAR SORN will have no adverse impacts on individuals and will also promote the overall streamlining and management of FTC Privacy Act systems of records.

SYSTEM NAME AND NUMBER:

Staff Time and Activity Reporting (STAR) System—FTC (FTC-II-13).

HISTORY:

85 FR 16349, 16352-53 (March 23, 2020).

By direction of the Commission.
April J. Tabor,
Secretary.

[FR Doc. 2022-21250 Filed 9-29-22; 8:45 am]

BILLING CODE 6750-01-P